DEPARTMENT OF THE INTERIOR

Fish and Wildlife Service

Availability of Final Environmental Assessment of Take of Nestling American Peregrine Falcons in the Contiguous United States and Alaska for Falconry

AGENCY: Fish and Wildlife Service, Interior.

ACTION: Notice of availability.

SUMMARY: This notice is to announce the availability of a Final Environmental Assessment and a Finding of No Significant Impact of take of nestling American Peregrine Falcons (Falco peregrinus anatum) for falconry. We published the Draft Environmental Assessment in July 2000. We considered 352 comments in revising the assessment. After completion of the Final Environmental Assessment, we also produced a Finding of No Significant Impact for the action.

ADDRESSES: The documents are available from the Division of Migratory Bird Management, U.S. Fish and Wildlife Service, 4401 North Fairfax Drive, Room 634, Arlington, Virginia 22203-1610. They also are available on the Division of Migratory Bird Management web pages at http://migratorybirds.fws.gov.

FOR FURTHER INFORMATION CONTACT: Dr. George T. Allen, Division of Migratory Bird Management, U.S. Fish and Wildlife Service, at 703/358-1714.

SUPPLEMENTARY INFORMATION: In the draft Environmental Assessment, we considered six alternatives for take of nestling American peregrine falcons (Falco peregrinus anatum) in the western United States and Alaska. We received 352 electronic or written comment letters on the draft Environmental Assessment. Seventeen were from State or Federal agencies; 335 were from individuals and organizations. Fifteen agency responses favored allowing take of nestlings, and 2 responses were neutral. Of the individual and organization comments received, 21 opposed take of nestlings and 314 supported allowing take. We modified the Environmental Assessment to respond to concerns expressed by agencies, organizations, and individuals.

Having reviewed the comments on the draft, our preferred alternative is to allow take of up to 5% of the American peregrine falcon nestlings produced in the States west of 100° longitude, at the discretion of each State. These States include Alaska, Arizona, California, Colorado, Idaho, Montana, Nevada, New Mexico, Oregon, Utah, Washington, and Wyoming. We believe that a conservative level of take is appropriate for a species recently removed from the List of Endangered and Threatened Wildlife and Plants, and will have no discernible effect on the American peregrine falcon population in the western United States.

Dated: May 1, 2001.
Marshall P. Jones, Jr.,
Acting Director, Fish and Wildlife Service.

[FR Doc. 01-11960 Filed 5-10-01; 8:45 am]

BILLING CODE 4310-55-P